DEPARTMENT OF LABOR

Employment and Training Administration

[TA-W-65,587]

Vitec Group Communications; Clear-Com Division; Alameda, CA; Notice of Termination of Investigation

Pursuant to Section 221 of the Trade Act of 1974, as amended, an investigation was initiated on March 13, 2009 in response to a worker petition filed on behalf of the workers at Vitec Group Communications, Clear-Com Division, Alameda, California.

The petitioners have requested that the petition be withdrawn. Consequently, the investigation has been terminated.

Signed at Washington, DC, this 3rd day of April 2009.
Richard Church,
Trade Adjustment Assistance.

[FR Doc. E9-10385 Filed 5-5-09; 8:45 am]

BILLING CODE 4510-FN-P